DEPARTMENT OF TRANSPORTATION

Federal Highway Administration

Environmental Impact Statement: Dallas County, TX

AGENCY: Federal Highway Administration (FHWA), DOT.

ACTION: Notice of intent.

SUMMARY: The FHWA issued a Notice of Intent to prepare an Environmental Impact Statement (EIS) for a Trinity Parkway reliever route, a transportation project, in the Federal Register on June 16, 1999 (Volume 64, Number 115). The FHWA is now issuing this supplementary Notice of Intent to include in the EIS a City of Dallas evaluation of a proposed City of Dallas Lake Plan located within the Trinity River Dallas Floodway in Dallas County, Texas. This proposed Lake Plan potentially affects the project corridor for the transportation project, and several of the route alternatives under consideration. Supplementary analysis is needed to fully address the impacts of joint development of these actions.

FOR FURTHER INFORMATION CONTACT: Mr. Patrick A. Bauer, P.E., District Engineer, Federal Highway Administration, 300 East Eighth Street, Federal Office Building, Room 826, Austin, Texas 78701, Telephone (512) 536-5950. Mr. Jerry Hiebert, Executive Director, North Texas Tollway Authority (NTTA), 5900 West Plano Parkway, Suite 100, Plano, Texas 75093, Telephone (214) 522-6200.

SUPPLEMENTARY INFORMATION: The FHWA, jointly with the Texas Department of Transportation and the NTTA, and in cooperation with the City of Dallas, will prepare an EIS for the Trinity Parkway reliever route and associated improvements in the project corridor. Associated improvements include one or more proposed lakes, recreation amenities, and possible wetlands as identified in the City of Dallas Trinity River Corridor Master Implementation Plan Lake Design and Recreational Amenities Report, which are located within the Dallas Floodway.

Impacts caused by construction and operation of the Trinity Parkway and the Dallas Lake Plan will vary according to the alternatives selected. Generally, these projects may impact floodplains, water quality, air quality, socio-economic conditions, historic and other man-made structures.

The Draft EIS will be available for public and agency review and comment prior to the public hearing. To ensure that the full range of issues related to this proposed action are addressed and all significant issues identified, comments and suggestions are invited from all interested parties. Comments or questions concerning this proposed action and the EIS should be directed to the FHWA or NTTA at the address provided above.

Issued on: December 1, 2000.
Salvador Deocampo,
Urban Programs Engineer, Federal Highway Administration.

[FR Doc. 00-31462 Filed 12-11-00; 8:45 am]

BILLING CODE 4910-22-M